COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be furnished by nonprofit agencies employing persons who are blind or have other severe disabilities, and deletes products and services from the Procurement List previously furnished by such agencies.

DATES: Date added to and deleted from the Procurement List: December 1, 2019.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 8/23/2019, the Committee for Purchase From People Who Are Blind or Severely Disabled published notice of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Janitorial Service

Mandatory for: US Coast Guard, USCG Training Center, Petaluma, CA

Mandatory for: US Coast Guard, USCG Pacific Strike Team, Novato, CA

Mandatory Source of Supply: North Bay Rehabilitation Services, Inc., Rohnert Park, CA

Contracting Activity: U.S. COAST GUARD, SILC BSS(00084)

Service Type: Transportation Maintenance and Operations Services

Mandatory for: US Navy, MCIEast, MCB Camp Lejeune (including MCAS New River), Camp Lejeune, NC

Mandatory Source of Supply: Skookum Educational Programs, Bremerton, WA

Contracting Activity: Dept of the Navy, Commanding General

Deletions

On 9/27/2019, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the products and services deleted from the Procurement List.

End of Certification

Accordingly, the following products and services are deleted from the Procurement List:

Products

NSNs—Product Names:

7510-01-435-9775—Micro-Cell Stamp Pad, Size #1 2¾ × 4½, Red

7510-01-435-9776—Micro-Cell Stamp Pad, Size #1, 2¾ × 4½, Black

7510-01-435-9777—Micro-Cell Stamp Pad, Size #2, 3¼ × 6¼, Red

7510-01-435-9778—Micro-Cell Stamp Pad, Size #2, 3¼ × 6¼, Black

Mandatory Source of Supply: Cattaraugus County Chapter, NYSARC, Olean, NY

Contracting Activity: GSA/FAS Admin SVCS Acquisition BR(2, New York, NY

Services

Service Type: Janitorial/Custodial

Mandatory for: Veterans Affairs Outpatient Clinic, Sacramento, CA

Mandatory Source of Supply: Easter Seal Society of Superior California, Sacramento, CA

Contracting Activity: Veterans Affairs, Department of, NAC

Service Type: Mailroom Operation

Mandatory for: Immigration and Naturalization Service: Administrative Center & Western Operations Region, Laguna Niguel, CA

Contracting Activity: Office of Policy, Management, and Budget, NBC Acquisition Services Division

Service Type: Operation of Postal Service Center

Mandatory for: Bolling Air Force Base, Washington, DC

Mandatory Source of Supply: ServiceSource, Inc., Oakton, VA

Contracting Activity: Dept of the Air Force, FA7012 11 CONS LGC

Service Type: Grounds Maintenance

Mandatory for: USACE Bayou Boeuf & Berwick Locks-East/West Calumet & Charenton Floodgates, Morgan City Vicinity, LA

Mandatory Source of Supply: Goodworks, Inc., New Orleans, LA

Contracting Activity: Dept of the Army, W07V ENDIST N Orleans

Service Type: Reception Service Support

Mandatory for: Fort Bragg, Fort Bragg, NC

Mandatory Source of Supply: Employment Source, Inc., Fayetteville, NC

Contracting Activity: Dept of the Army, W6QM MICC FDO FT Bragg

Service Type: Reception Service Support

Mandatory for: Fort Campbell, Fort Campbell, KY

Mandatory Source of Supply: Employment Source, Inc., Fayetteville, NC

Contracting Activity: Dept of the Army, W6QM MICC FDO FT Bragg

Service Type: Reception Service Support

Mandatory for: Fort Hood, Fort Hood, TX

Mandatory Source of Supply: Professional Contract Services, Inc., Austin, TX

Contracting Activity: Dept of the Army, W6QM MICC FDO FT Bragg

Service Type: Reception Service Support

Mandatory for: Fort Bliss, Fort Bliss, TX

Mandatory Source of Supply: Tresco, Inc., Las Cruces, NM

Contracting Activity: Dept of the Army, W6QM MICC FDO FT Bragg

Service Type: Reception Service Support

Mandatory for: Fort Sill, Fort Sill, OK

Mandatory Source of Supply: Work Services Corporation, Wichita Falls, TX

Contracting Activity: Dept of the Army, W6QM MICC FDO FT Bragg

Service Type: Reception Service Support

Mandatory for: Fort Lewis, Fort Lewis, WA

Mandatory Source of Supply: Skookum Educational Programs, Bremerton, WA

Contracting Activity: Dept of the Army, W6QM MICC FDO FT Bragg

Service Type: Custodial Services

Mandatory for: Illinois Military Academy: 1301 North MacArthur Road, Springfield, IL

Mandatory Source of Supply: United Cerebral Palsy of the Land of Lincoln, Springfield, IL

Contracting Activity: Dept of Defense, DOD/OFF of Secretary of DEF (EXC MIL DEPTS)

Service Type: Grounds Maintenance

Mandatory for: Corpus Christi Resident Office, USACE (SAO), 1920 N Chaparral St., Corpus Christi, TX

Mandatory Source of Supply: Training, Rehabilitation, & Development Institute, Inc., San Antonio, TX

Contracting Activity: Dept of the Army, W076 ENDIST Galveston

Service Type: Custodial Services

Mandatory for: USDA, Animal and Plant Health Inspection Service: 67 Thomas Johnson Drive, Frederick, MD

Mandatory for: USDA, Animal and Plant Health Inspection Service: 69 Thomas Johnson Drive, Frederick, MD

Mandatory Source of Supply: NW Works, Inc., Winchester, VA

Contracting Activity: Animal and Plant Health Inspection Service, USDA APHIS MRPBS

Service Type: Janitorial/Custodial

Mandatory for: Douglas Station Post Office: 904 Third Street, Douglas, AK

Mandatory Source of Supply: REACH, Inc., Juneau, AK

Contracting Activity: U.S. Postal Service, Washington, DC

Service Type: Janitorial/Custodial

Mandatory for: U.S. Coast Guard Cutter Aspen: Yerba Buena Island, San Francisco, CA

Mandatory Source of Supply: Toolworks, Inc., San Francisco, CA

Contracting Activity: U.S. Coast Guard, Base Alameda

Service Type: Custodial Services

Mandatory for: Caribou-Targhee National Forest, St. Anthony Supervisor's Office, USFS, St. Anthony, ID

Mandatory Source of Supply: Development Workshop, Inc., Idaho Falls, ID

Contracting Activity: Forest Service, Caribou-Targhee National Forest

Service Type: Grounds Maintenance

Mandatory for: USDA, Southern Plains Agriculture Research Center: 2881 F&B Road, College Station, TX

Mandatory Source of Supply: World Technical Services, Inc., San Antonio, TX

Contracting Activity: Agricultural Research Service, Dept of AGRIC/Agricultural Research Service

Service Type: Vehicle Retrofitting Srvc limited to FPI surplus

Mandatory for: Retrofit Facility (Prime Contract): Bremerton, WA

Mandatory Source of Supply: Skookum Educational Programs, Bremerton, WA

Contracting Activity: Bureau of Customs and Border Protection, SBI Acquisition Office

Service Type: Janitorial/Grounds Maintenance

Mandatory for: Oxnard Border Patrol Station, Camarillo, CA

Mandatory Source of Supply: The ARC of Ventura County, Inc., Ventura, CA

Contracting Activity: U.S. Immigration and Customs Enforcement, Detention Management—Laguna Office

Service Type: Custodial Services

Mandatory for: U.S. Coast Guard Marine Safety Office: 9640 Clinton Drive, Galena, TX

Mandatory Source of Supply: On Our Own Services, Inc., Houston, TX

Contracting Activity: U.S. Coast Guard, U.S. Coast Guard

Service Type: Guard Services

Mandatory for: U.S. Coast Guard-Mayport, Mayport, FL

Mandatory Source of Supply: GINFL Services, Inc., Jacksonville, FL

Contracting Activity: U.S. Coast Guard, U.S. Coast Guard

Service Type: Disposal Support Services

Mandatory for: Hill Air Force Base: Defense Reutilization and Marketing Office, Hill Air Force Base, UT

Mandatory Source of Supply: EnableUtah, Ogden, UT

Contracting Activity: Dept of Defense, DOD/OFF of Secretary of DEF (EXC MIL Depts)

Service Type: Laundry Service

Mandatory for: Whidbey Island Naval Air Station: Naval Hospital, Oak Harbor, WA

Mandatory Source of Supply: Northwest Center, Seattle, WA

Contracting Activity: Dept of the Navy, NAVSUP FLT LOG CTR Puget Sound

Service Type: Grounds Maintenance

Mandatory for: Marine Corps Support Activity: Richards-Gebaur Memorial Airport, Kansas City, MO

Mandatory Source of Supply: JobOne, Independence, MO

Contracting Activity: Dept of the Navy, U.S. Fleet Forces Command

Service Type: Custodial service

Mandatory for: Eastern ARNG Aviation Training Site, Capital City Airport Hanger 2, New Cumberland, PA

Mandatory Source of Supply: Opportunity Center, Incorporated, Wilmington, DE

Contracting Activity: Dept of the Army, W7NX USPFO Activity PA ARNG

Service Type: Janitorial/Custodial

Mandatory for: Segura U.S. Army Reserve Center: 301 Ascarate Park Road, El Paso, TX

Mandatory Source of Supply: Let's Go To Work, El Paso, TX

Contracting Activity: Dept of the Army, W6QM MICC-PRESIDIO (RC-W)

Service Type: Administrative Services

Mandatory for: U.S. Customs Service Academy, Glynco, GA

Mandatory Source of Supply: Challenge Enterprises of North Florida, Inc., Green Cove Springs, FL

Contracting Activity: Bureau of Customs and Border Protection, National Acquisition Center

Service Type: Custodial and Grounds Maintenance

Mandatory for: Salmon Airbase, 8 Industrial Lane, USFS, Salmon, ID

Mandatory Source of Supply: Development Workshop, Inc., Idaho Falls, ID

Contracting Activity: Forest Service, Caribou-Targhee National Forest

Patricia Briscoe,
Deputy Director, Business Operations (Pricing and Information Management).

[FR Doc. 2019-23939 Filed 10-31-19; 8:45 am]

BILLING CODE 6353-01-P